DEPARTMENT OF COMMERCE

International Trade Administration

[A-570-928]

Uncovered Innerspring Units From the People's Republic of China: Final Results of the Antidumping Duty Administrative Review; 2018-2019

AGENCY: Enforcement and Compliance, International Trade Administration, Department of Commerce.

SUMMARY: The Department of Commerce (Commerce) has completed the administrative review of the antidumping duty order on uncovered innerspring units (innersprings) from the People's Republic of China (China) covering the period of review (POR) February 1, 2018 through January 31, 2019. We continue to find that none of the exporters of subject merchandise demonstrated eligibility for a separate rate; therefore, each is part of the China-wide entity.

DATES: Applicable February 6, 2020.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On October 2, 2019, Commerce published the Preliminary Results of this review and gave interested parties an opportunity to comment.¹ We received no comments. These final results cover two companies for which an administrative review was requested and not rescinded: Jietai Machinery Ltd. (HK) and Green Asia Parts, LTD.² This review was conducted in accordance with section 751(a)(1)(B) of the Tariff Act of 1930, as amended (the Act).

¹ See Uncovered Innerspring Units from the People's Republic of China: Preliminary Results of the Antidumping Duty Administrative Review; 2018-2019, 84 FR 52459 (October 2, 2019) (Preliminary Results).

² Id.

Scope of the Order

The merchandise subject to the order is uncovered innerspring units composed of a series of individual metal springs joined together in sizes corresponding to the sizes of adult mattresses (e.g., twin, twin long, full, full long, queen, California king and king) and units used in smaller constructions, such as crib and youth mattresses. All uncovered innerspring units are included in the scope regardless of width and length. Included within this definition are innersprings typically ranging from 30.5 inches to 76 inches in width and 68 inches to 84 inches in length. Innersprings for crib mattresses typically range from 25 inches to 27 inches in width and 50 inches to 52 inches in length.

Uncovered innerspring units are suitable for use as the innerspring component in the manufacture of innerspring mattresses, including mattresses that incorporate a foam encasement around the innerspring.

Pocketed and non-pocketed innerspring units are included in this definition. Non-pocketed innersprings are typically joined together with helical wire and border rods. Non-pocketed innersprings are included in this definition regardless of whether they have border rods attached to the perimeter of the innerspring. Pocketed innersprings are individual coils covered by a “pocket” or “sock” of a nonwoven synthetic material or woven material and then glued together in a linear fashion.

Uncovered innersprings are classified under subheading 9404.29.9010 and have also been classified under subheadings 7320.20.5010, 7320.90.5010, 7326.20.0070, 7326.20.0071, 7326.20.0090, 9404.10.0000, 9404.29.9005, 9404.29.9011, 9404.29.9013, and 9404.29.9050 of the Harmonized Tariff Schedule of the United States (HTSUS).³ The HTSUS subheadings are provided for convenience and customs purposes only; the written description of the scope of the order is dispositive.

³ Based on a recommendation by U.S. Customs and Border Protection (CBP), on September 6, 2017, we added HTSUS 7326.20.0090 to the scope. See Memorandum, “Request from Customs and Border Protection to Update the ACE AD/CVD Case Reference File, Uncovered Innersprings from the People's Republic of China (A-570-928) and South Africa (A-791-821),” dated September 6, 2017. On October 21, 2019, we also added HTSUS numbers 9404.29.9050 and 9404.29.9013 to the scope based on another recommendation by CBP. See Memorandum, “Request from Customs and Border Protection to Update the ACE AD/CVD Case Reference File, Uncovered Innersprings from the People's Republic of China (A-570-928),” dated October 21, 2019.

Final Results of Review

Commerce preliminarily determined that neither of the companies subject to this review demonstrated eligibility for separate rate status and, thus, Commerce found them to be part of the China-wide entity.⁴ As noted above, Commerce received no comments concerning the Preliminary Results of this review. We find that there is no reason to modify our analysis. Accordingly, no decision memorandum accompanies this Federal Register notice. For further details regarding the issues addressed in this proceeding, see the Preliminary Results.⁵

⁴ See Preliminary Results.

⁵ Id.

In these final results of review, we continue to treat both exporters subject to this review as part of the China-wide entity.⁶ The China-wide entity rate is 234.51 percent.

⁶ In the Preliminary Results, we found both exporters subject to this review to be part of the China-wide entity as each exporter failed to submit a separate rate application and/or a separate rate certification to establish its eligibility for separate rate status.

China-Wide Entity

Commerce's policy regarding the conditional review of the China-wide entity applies to this administrative review.⁷ Under this policy, the China-wide entity will not be under review unless a party specifically requests, or Commerce self-initiates, a review of the entity. Because no party requested a review of the China-wide entity, and Commerce did not self-initiate a review, the entity is not under review and the entity's rate is not subject to change (i.e., 234.51 percent).

⁷ See Antidumping Proceedings: Announcement of Change in Department Practice for Respondent Selection in Antidumping Duty Proceedings and Conditional Review of the Nonmarket Economy Entity in NME Antidumping Duty Proceedings, 78 FR 65963 (November 4, 2013).

Assessment Rates

Commerce has determined, and CBP shall assess, antidumping duties on all appropriate entries in this review, in accordance with section 751(a)(2)(C) of the Act and 19 CFR 351.212(b)(1). We intend to issue assessment instructions directly to CBP 15 days after publication in the Federal Register of these final results of this administrative review.

Cash Deposit Requirements

The following cash deposit requirements will be effective upon publication of the final results of this administrative review for all shipments of the subject merchandise entered, or withdrawn from warehouse, for consumption on or after the publication date, as provided for by section 751(a)(2)(C) of the Act: (1) For previously investigated or reviewed Chinese and non-Chinese exporters not under review in this segment of the proceeding, but who have separate rates, the cash deposit rate will continue to be the exporter-specific rate published for the most recent period; (2) for all Chinese exporters of subject merchandise that have not been found to be entitled to a separate rate, the cash deposit rate will be the China-wide entity rate (i.e., 234.51 percent); and (3) for all non-Chinese exporters of subject merchandise which have not received their own rate, the cash deposit rate will be the rate applicable to the Chinese exporter that supplied that non-Chinese exporter. These deposit requirements, when imposed, shall remain in effect until further notice.

Reimbursement of Duties

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

Notification to Interested Parties

We are issuing and publishing this notice in accordance with sections 751(a)(1) and 777(i)(1) of the Act, and 19 CFR 351.213(h).

Dated: January 27, 2020.
Jeffrey I. Kessler,
Assistant Secretary for Enforcement and Compliance.

[FR Doc. 2020-02377 Filed 2-5-20; 8:45 am]

BILLING CODE 3510-DS-P